COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products and services previously furnished by such agencies.

DATES: Comments must be received on or before: September 15, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSNs—Product Names:

4240-00-NIB-0237—Illuminating Grip Wrap, Roll, 1-1/2″ x 5′

4240-00-NIB-0238—Illuminating Grip Wrap, Roll, 1-1/2″ x 10′

4240-00-NIB-0239—Self-Contained Breathing Apparatus Identifier Tags

4240-00-NIB-0240—One-Sided Exit Sign, Silver with Photo Luminescent Letters and Silver Frame, Post Mount

4240-00-NIB-0241—Two-Sided Exit Sign, Silver with Photo Luminescent letters and Silver Frame, Post Mount

4240-00-NIB-0242—One-Sided Exit Sign, Silver with Photo Luminescent Letters and Silver Frame, Wall Mount Bracket

4240-00-NIB-0243—One-Sided Exit Sign with Photo Luminescent Letters, No Frame or Mount

4240-00-NIB-0244—Illuminating Multipurpose Adhesive Tape, Roll, 1-1/4″ x 25′

4240-00-NIB-0245—Illuminating Multipurpose Adhesive Tape, Roll, 1-1/4″ x 50′

4240-00-NIB-0246—lluminating Multipurpose Adhesive Tape with Directional Arrows, Roll, 1-1/4″ x 25′

4240-00-NIB-0247—Illuminating Multipurpose Adhesive Tape with Directional Arrows, Roll, 1-1/4″ x 50′

4240-00-NIB-0248—Illuminating Helmet Band, 11-1/2″ x 1-1/2″

4240-00-NIB-0269—Sign, “EXIT”, Clear Lucite with Mounting Bracket, Photoluminescent

4240-00-NIB-0270—Sign, “EXIT”, Mirrored Lucite with Mounting Bracket, Photoluminescent

4240-00-NIB-0271—Kit, Conversion, Mirrored Lucite “EXIT”, Double Sided, Photoluminescent

4240-00-NIB-0272—Label, “STANDPIPE”, Adhesive Back, Photoluminescent

4240-00-NIB-0273—Label, “EMERGENCY EXIT”, Adhesive Back, Photoluminescent

4240-00-NIB-0274—Sign, “RUNNING MAN” with Directional Arrow, Photoluminescent

4240-00-NIB-0275—Sign, “FIRE EXTINGUISHER”, Photoluminescent

4240-00-NIB-0276—Label, Custom, SBCA ID, Adhesive Back, Photoluminescent

4240-00-NIB-0282—Sign, “FLOOR 1”, Stairwell Identifier, Photoluminescent

4240-00-NIB-0283—Sign, “FLOOR 2”, Stairwell Identifier, Photoluminescent

4240-00-NIB-0284—Sign, “FLOOR 3”, Stairwell Identifier, Photoluminescent

4240-00-NIB-0285—Sign, “FLOOR 4”, Stairwell Identifier, Photoluminescent

4240-00-NIB-0286—Sign, “FLOOR 5”, Stairwell Identifier, Photoluminescent

4240-00-NIB-0287—Sign, “FLOOR 6”, Stairwell Identifier, Photoluminescent

4240-00-NIB-0288—Sign, “FLOOR 7”, Stairwell Identifier, Photoluminescent

4240-00-NIB-0289—Sign, “FLOOR 8”, Stairwell Identifier, Photoluminescent

4240-00-NIB-0290—Sign, “FLOOR 9”, Stairwell Identifier, Photoluminescent

4240-00-NIB-0291—Sign, “FLOOR 10”, Stairwell Identifier, Photoluminescent

4240-00-NIB-0292—Sign, Side Directional Arrow, Photoluminescent

4240-00-NIB-0293—Sign, Corner Directional Arrow, Photoluminescent

4240-00-NIB-0294—Sign, “NOT AN EXIT”, Photoluminescent

4240-00-NIB-0295—Sign, “EXIT LEFT”, Photoluminescent

4240-00-NIB-0296—Sign, “EXIT RIGHT”, Photoluminescent

4240-00-NIB-0297—Sign, “STAIRS”, Photoluminescent

4240-00-NIB-0298—Sign, Custom Printed, Photoluminescent

4240-00-NIB-0299—Sign, “DOOR REMAINED UNLOCKED”

4240-00-NIB-0300—Sign, “FIRE DOOR KEEP CLOSED”

4240-00-NIB-0301—Sign, ” NO SMOKING”

4240-00-NIB-0302—Sign, Custom Eco Solvent Printed

4240-00-NIB-0303—Sign, “EXIT”, Photoluminescent

4240-00-NIB-0304—Sign, “TIME DELAYED DOOR”, Photoluminescent

4240-00-NIB-0305—Sign, “IN CASE OF FIRE”, Photoluminescent

4240-00-NIB-0306—Sign, Custom Printed, Photoluminescent

Mandatory Source of Supply: Cincinnati Association for the Blind, Cincinnati, OH

Mandatory for Government Requirement. as directed by Contracting Activity: DEFENSE LOGISTICS AGENCY, DLA TROOP SUPPORT

Service

Service Type: Janitorial and related services

Mandatory for Contracting Activity: GSA PBS Region 8, Old Chamber Building, 2nd Floor Judges Space, Billings, MT

Mandatory Source of Supply: Community Option Resource Enterprises, Inc. (COR Enterprises), Billings, MT

Deletions

The following products and services are proposed for deletion from the Procurement List:

Products

NSNs—Product Names:

MR 1103—Heavy Duty Laundry Bag

MR 1116—Duster, Flexible, Multi Microfiber, Red

MR 11012—Grocery Shopping Tote Bag, Laminated, Commissary 150th Anniversary, Interior Scene

MR 11059—Grocery Shopping Tote Bag, Laminated, Summer, Pink, Small

MR 11060—Grocery Shopping Tote Bag, Laminated, Summer, Yellow, Small

MR 11064—Grocery Shopping Tote Bag, Laminated, Halloween, Ghost, Small

Mandatory Source of Supply: Industries for the Blind and Visually Impaired, Inc, West Allis, WI

MR 381—Gift Box, Sweet Treat, Christmas

Mandatory Source of Supply: Winston-Salem Industries for the Blind, Inc., Winston-Salem, NC

Contracting Activity: Military Resale-Defense Commissary Agency

NSNs—Product Names:

7530-01-600-2022—Notebook, Spiral Bound, Biobased Bagasse Paper, 5 x 7-1/2″, 80 sheets, College Rule, White

7530-01-600-2024—Notebook, Spiral Bound, Biobased Bagasse Paper, 8-1/2 x 11″, 100 sheets, College Rule, White

Mandatory Source of Supply: Winston-Salem Industries for the Blind, Inc., Winston-Salem, NC

7045-01-599-9347—USB Flash Drive, 256-Bit AES Encryption, Level 3 Encrypted, 4GB

Mandatory Source of Supply: North Central Sight Services, Inc., Williamsport, PA

6645-01-389-7961—Clock, Wall, Slimline, White, 9 1/4″ Quartz

6645-01-456-5011—Clock, Wall, Slimline, White, Custom Logo, 9 1/4″ Quartz

6645-01-456-5009—Clock, Wall, Slimline, Stone Gray, Custom Logo, 9 1/4″ Quartz

6645-01-491-9828—Clock, Wall, Atomic, Bronze, Custom Logo, 9 1/4″ Diameter

6645-01-491-9822—Clock, Wall, Atomic, Walnut, Custom Logo, 16″ Diameter

Mandatory Source of Supply: Chicago Lighthouse Industries, Chicago, IL

Contracting Activity: GSA/FAS ADMIN SVCS ACQUISITION BR(2, NEW YORK, NY

NSN—Product Name:

7045-01-570-8902—Privacy Filter, Notebook, 15.4″ Widescreen

Mandatory Source of Supply: Wiscraft, Inc., Milwaukee, WI

Contracting Activity: STRATEGIC ACQUISITION CENTER, FREDERICKSBURG, VA

NSN—Product Name:

5340-01-630-4191—Desktop/Notebook Security Cable, Master-Coded Combination Lock Kit, 20 Lock Kits

Mandatory Source of Supply: Alphapointe, Kansas City, MO

6520-00-926-9041—Bag, Dental Prosthesis

Mandatory Source of Supply: Envision, Inc., Wichita, KS

Contracting Activity: DLA TROOP SUPPORT, PHILADELPHIA, PA

Services

Service Type: Administrative Services

Mandatory for: USDA, Animal and Plant Health Inspection Service, Raleigh, NC

Mandatory Source of Supply: Employment Source, Inc., Fayetteville, NC

Contracting Activity: ANIMAL AND PLANT HEALTH INSPECTION SERVICE, DEPT OF AGRI/ANIMAL & PLANT HLTH INSPECT SVC

Service Type: Photocopying

Mandatory for: Government Printing Office: 710 North Capitol & H Street NW, Washington, DC

Mandatory Source of Supply: Alliance, Inc., Baltimore, MD

Service Type: Operation of Self Service Supply Store

Mandatory for: Environmental Protection Agency: Waterside Mall Complex, Washington, DC

Mandatory Source of Supply: ServiceSource, Inc., Oakton, VA

Service Type: Janitorial/Custodial

Mandatory for: Waco Distribution Center: 1801 Exchange Park, Waco, TX

Contracting Activity: DEPT OF THE ARMY, W40M RHCO-ATLANTIC USAHCA

Service Type: Janitorial/Custodial

Mandatory for: O'Hare Air Reserve Forces Facility: Building #4, Chicago, IL

Mandatory Source of Supply: Jewish Vocational Service and Employment Center, Chicago, IL

Contracting Activity: DEFENSE LOGISTICS AGENCY, DLA SUPPORT SERVICES—DSS

Service Type: Janitorial/Custodial

Mandatory for: Army Air Force Exchange Service—Stoneridge Bldg Park: 8901 Autobahn Dr, Dallas, TX

Mandatory Source of Supply: On Our Own Services, Inc., Houston, TX

Service Type: Grounds Maintenance

Mandatory for: U.S. Post Office: Linda Vista Station, San Diego, CA

Mandatory Source of Supply: Job Options, Inc., San Diego, CA

Service Type: Grounds Maintenance

Mandatory for: U.S. Post Office: Mission Gorge Station, San Diego, CA

Mandatory Source of Supply: Job Options, Inc., San Diego, CA

Service Type: Grounds Maintenance

Mandatory for: U.S. Post Office: 16960 Bernardo Center Drive, San Diego, CA

Mandatory Source of Supply: Job Options, Inc., San Diego, CA

Service Type: Custodial Services

Mandatory for: USDA, Forest Service—District Office: 4000 I-75 Business Spur, Sault Sainte Marie, MI

Mandatory Source of Supply: Northern Transitions, Inc., Sault Ste. Marie, MI

Service Type: Medical Transcription

Mandatory for: VHA, VISN 3, VA NY/NJ Veterans Healthcare Network, Northport VA Medical Center, Northport, NY

Mandatory Source of Supply: Goodwill Industries of San Antonio Contract Services, San Antonio, TX

Service Type: Medical Transcription

Mandatory for: VHA, VISN 3, VA NY/NJ Veterans Healthcare Network, VA Hudson Valley Healthcare System, Montrose and Castle Point Campuses-ONLY, Bronx, NY

Mandatory Source of Supply: Goodwill Industries of San Antonio Contract Services, San Antonio, TX

Service Type: Janitorial/Custodial

Mandatory for: O'Hare International Airport/Air Reserve Station: 928th Airlift Group (AFRES), Chicago, IL

Mandatory Source of Supply: Jewish Vocational Service and Employment Center, Chicago, IL

Contracting Activity: DEPT OF THE AIR FORCE, FA7014 AFDW PK

Service Type: Janitorial/Custodial

Mandatory for: Fort Hood: Building 50004, Post Exchange, Fort Hood, TX

Contracting Activity: DEPT OF THE ARMY, W40M RHCO-ATLANTIC USAHCA

Service Type: Janitorial/Custodial

Mandatory for: Mount Weather Emergency Assistance Center: Bldgs. 400, 401, 403, 405, 409, 411 (offices and restrooms only), 413, 431 and Walkway, Bluemont, VA

Mandatory Source of Supply: NW Works, Inc., Winchester, VA

Contracting Activity: FEDERAL EMERGENCY MANAGEMENT AGENCY, NETC ACQUISITION SECTION

Service Type: Janitorial/Custodial

Mandatory for: Umpqua National Forest: 2691 NE Diamond Lake Boulevard—Radio Shop, Roseburg, OR

Mandatory Source of Supply: Sunrise Enterprises of Roseburg, Inc., Roseburg, OR

Contracting Activity: AGRICULTURE, DEPARTMENT OF, PROCUREMENT OPERATIONS DIVISION

Service Type: Parts Sorting

Mandatory for: Defense Reutilization and Marketing Office, Barstow, CA

Service Type: Disposal Support Services

Mandatory for: Defense Reutilization and Marketing Office, Stockton, CA

Contracting Activity: DEFENSE LOGISTICS AGENCY, DLA SUPPORT SERVICES—DSS

Service Type: Janitorial/Custodial

Mandatory for: U.S. Coast Guard: MSO/Group Portland, Portland, OR

Mandatory Source of Supply: Relay Resources, Portland, OR

Service Type: Janitorial/Custodial

Mandatory for: Fernan Ranger Station, 2502 Sherman Avenue, Coeur d'Alene, ID

Mandatory Source of Supply: Skils'kin, Spokane, WA

Contracting Activity: FOREST SERVICE, IDAHO PANHANDLE NF

Service Type: Printer Toner Cartridge & Ribbons Management

Mandatory for: Veterans Affairs Medical Center, Danville, IL

Mandatory Source of Supply: TRI Industries NFP, Vernon Hills, IL

Service Type: Mailroom Operation

Mandatory for: Federal Highway Administration: 555 Zang Street (Lakewood County), Denver, CO

Mandatory Source of Supply: Bayaud Industries, Inc., Denver, CO

Service Type: Appliance Cleaning Service

Mandatory for: Department of Homeland Security/National Records Center: 150 Space Center Loop, Lee's Summit, MO

Mandatory Source of Supply: JobOne, Independence, MO

Service Type: Janitorial/Custodial

Mandatory for: Umpqua National Forest: 2900 NW Stewart Parkway, Supervisor's Office, Roseburg, OR

Mandatory Source of Supply: Sunrise Enterprises of Roseburg, Inc., Roseburg, OR

Service Type: Mailing Services

Mandatory for: Theodore Levin U.S. Courthouse: U.S. District Court, Eastern District of Michigan, Detroit, MI

Mandatory Source of Supply: Jewish Vocational Service and Community Workshop, Southfield, MI

Service Type: Janitorial/Custodial

Mandatory for: Scott AFB: 126th Air Refueling Wing, Scott Air Force Base, IL

Mandatory Source of Supply: Challenge Unlimited, Inc., Alton, IL

Service Type: Custodial service

Mandatory for: Department of Homeland Security, Assistant Special Agent in Charge (ASAC), San Angelo Homeland Security Investigations, 5575 Stewart Lane, San Angelo, TX

Mandatory Source of Supply: Mavagi Enterprises, Inc., San Antonio, TX

Patricia Briscoe,
Deputy Director, Business Operations (Pricing and Information Management).

[FR Doc. 2019-17610 Filed 8-15-19; 8:45 am]

BILLING CODE 6353-01-P